DEPARTMENT OF DEFENSE

Defense Acquisition Regulations System

[Docket Number DARS-2019-0040; OMB Control Number 0704-0441]

Information Collection Requirement; Defense Federal Acquisition Regulation Supplement (DFARS); Quality Assurance; Submission for OMB Review; Comment Request

AGENCY: Defense Acquisition Regulations System, Department of Defense (DoD).

ACTION: Notice.

SUMMARY: The Defense Acquisition Regulations System has submitted to the Office of Management and Budget (OMB) for clearance, the following proposed revision and extension of a collection of information under the provisions of the Paperwork Reduction Act.

DATES: Consideration will be given to all comments received by October 25, 2019.

SUPPLEMENTARY INFORMATION: Title and OMB Number: Defense Federal Acquisition Regulation Supplement (DFARS) Part 246, Quality Assurance, and related clauses at 252.246; OMB Control Number 0704-0441.

Affected Public: Businesses or other for-profit and not-for-profit institutions.

Respondent's Obligation: Required to obtain or retain benefits.

Frequency: On occasion.

Type of Request: Revision and extension.

Number of Respondents: 34,842.

Responses per Respondent: ~1.55.

Annual Responses: 122,024.

Average Burden per Response: ~17.05.

Annual Burden Hours: 2,075,685 (includes 39,075 reporting hours and 2,036,610 recordkeeping hours).

Needs and Uses: The information collections under OMB Control Number 0704-0441 pertain to all information that offerors or contractors must submit related to DFARS contract quality assurance programs. This renewal includes the incorporation of OMB Control Number 0704-0541.

a. 252.246-7003, Notification of Potential Safety Issues. Contracting officers require timely notification of potential safety defects so that (1) systems and equipment likely affected by the situation can be readily identified, and (2) appropriate engineering investigation and follow-on actions can be taken to establish and mitigate risk.

b. 252.246-7005, Notice of Warranty Tracking of Serialized Items. The information provided by offerors under this provision alerts contracting officers in those cases where the offeror is proposing to provide a warranty for an individual contract line item for which DoD has not specified a warranty in the solicitation. The warranty notice will permit the Government to recognize and utilize any warranty after contract award.

c. 252.246-7006, Warranty Tracking of Serialized Items, implements section 818 of the National Defense Authorization Act (NDAA) for Fiscal Year (FY) 2012 (Pub. L. 112-81 as amended by section 817 of the NDAA for FY 2015 (Pub. L. 113-291). The information provided by contractors allows DoD to track warranties for item unique item identification (IUID) required items in the IUID registry to obtain maximum utility of warranties provided on contracted items. The identification and enforcement of warranties is essential to the effectiveness and efficiency of DoD's material readiness. Providing visibility and accountability of warranty data associated with acquired goods, from the identification of the requirement to the expiration date of the warranted item, significantly enhances DoD's ability to take full advantage of warranties, resulting in—

(1) Reduced costs;

(2) Ability to recognize benefits included at no additional cost;

(3) Ability to compare performance against Government-specified warranties; and

(4) Identification of sufficient durations for warranties for specific goods.

d. 252.246-7008, Sources of Electronic Parts. The notification and documentation requirements are necessary to comply with statute. The contracting officer will use the information to ensure that the contractor performs the traceability of parts, additional inspection, testing, and authentication required when an electronic part is not obtained from a trusted supplier. The Government may also use this information to more actively perform acceptance.

Comments and recommendations on the proposed information collection should be sent to Ms. Jasmeet Seehra, DoD Desk Officer, at Oira_submission@omb.eop.gov. Please identify the proposed information collection by DoD Desk Officer and the Docket ID number and title of the information collection

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer Lee Hawes,
Regulatory Control Officer, Defense Acquisition Regulations System.

[FR Doc. 2019-20845 Filed 9-24-19; 8:45 am]

BILLING CODE 5001-06-P